DEPARTMENT OF COMMERCE

National Oceanic and Atmospheric Administration

RIN 0648-XU67

Marine Mammals; File No. 14142

AGENCY: National Marine Fisheries Service (NMFS), National Oceanic and Atmospheric Administration (NOAA), Commerce.

ACTION: Notice; issuance of permit.

SUMMARY: Notice is hereby given that Niladri Basu, Ph.D., Department of Environmental Health Sciences, University of Michigan, 109 South Observatory Road, Ann Arbor, MI 48109-2029, has been issued a scientific research permit to import marine mammal specimens for scientific research.

ADDRESSES: The permit and related documents are available for review upon written request or by appointment in the following offices:

Permits, Conservation and Education Division, Office of Protected Resources, NMFS, 1315 East-West Highway, Room 13705, Silver Spring, MD 20910; phone (301) 713-2289; fax (301) 427-2521; and

Northeast Region, NMFS, 55 Great Republic Drive, Gloucester, MA 01930; phone (978) 281-9328; fax (978) 281-9394.

FOR FURTHER INFORMATION CONTACT: Jennifer Skidmore or Amy Sloan, (301) 713-2289.

SUPPLEMENTARY INFORMATION: On January 28, 2009, notice was published in the Federal Register (74 FR 4945) that a request for a scientific research permit had been submitted by the above-named individual. The requested permit has been issued under the authority of the Marine Mammal Protection Act of 1972, as amended (16 U.S.C. 1361 et seq.) and the regulations governing the taking and importing of marine mammals (50 CFR part 216).

The permit authorizes the importation of marine mammal tissues (brain, liver, muscle, kidney, skin) from up to 100 individuals (hunter-killed, stranded) collected by colleagues at the National Environmental Research Institute of Denmark (Roskilde, Denmark) from each of the following marine mammal species taken in Greenland, Faroe Islands, or Denmark: ringed seal (Phoca hispida), pilot whale (Globicephala melas), hooded seal (Cystopora cristata), harp seal (Pagophilus groenlandicus), narwhal (Monodon monoceros), beluga (Delphinapterus leucas), harbor porpoise (Phocoena phocoena), harbor seal (Phoca vitulina), and grey seal (Haliocherus grypus). This permit does not include authorization for takes of live animals or the incidental take of non-target species. This permit will expire 5 years from date of issuance.

In compliance with the National Environmental Policy Act of 1969 (42 U.S.C. 4321 et seq.), a final determination has been made that the activity proposed is categorically excluded from the requirement to prepare an environmental assessment or environmental impact statement.

Dated: March 11, 2010.
Tammy C. Adams,
Acting Chief, Permits, Conservation and Education Division, Office of Protected Resources, National Marine Fisheries Service.

[FR Doc. 2010-5838 Filed 3-16-10; 8:45 am]

BILLING CODE 3510-22-S